DEPARTMENT OF HEALTH AND HUMAN SERVICES

Opportunity To Apply for Office on Women's Health 25th Anniversary Partnership Award, Trailblazer Award, and Emerging Leader Award

AGENCY: Office of the Secretary, Office of the Assistant Secretary for Health, Office on Women's Health, Department of Health and Human Services.

ACTION: Notice.

SUMMARY: Pursuant to 42 U.S.C. 300u, 42 U.S.C. 300u-2, and 42 U.S.C. 237a (§ 3509 of the Patient Protection and Affordable Care Act), notice is given that the Office on Women's Health (OWH) is soliciting award nominations in honor of its 25th anniversary from individuals and organizations for the following three awards:

• Partnership Award: The Partnership Award recognizes an outstanding partner organization of OWH. This organization has demonstrated a commitment to improving women's health and its efforts have resulted in measurable results that increased awareness about OWH, its initiative(s), or observance(s).

• Trailblazer Award: The Trailblazer Award recognizes an individual who has paved the way for advancement in women's health by being an innovator, a visionary, and a changemaker. The recipient of this award could include a researcher, advocate, or policymaker, and could be either a government or non-government employee.

• Emerging Leader Award: The Emerging Leader Award recognizes an individual in the early stages of their career who is already making a difference in women's health. The recipient of this award could include a researcher, advocate, or policymaker, and could be either a government or non-government employee.

DATES: Individuals and representatives of eligible organizations should submit expressions of interest no later than 6:00 p.m. EST on August 25, 2016. Representatives may nominate themselves or another person or organization.

ADDRESSES: Expressions of interest should be directed electronically to aaron.polacek@hhs.gov or mailed to the Office on Women's Health, Office of the Assistant Secretary for Health, Department of Health and Human Services, 200 Independence Avenue SW., Room 732F, Washington, DC 20201. Attention: Aaron Polacek.

FOR FURTHER INFORMATION CONTACT: Questions may be directed to Aaron Polacek, Office on Women's Health, 200 Independence Avenue SW., Room 732F, Washington, DC 20201. Email: aaron.polacek@hhs.gov.

SUPPLEMENTARY INFORMATION: The OWH was established in 1991 to improve the health of American women by advancing and coordinating a comprehensive women's health agenda throughout the Department of Health and Human Service (HHS). The OWH provides national leadership and coordination to improve the health of women and girls through policy, education, and model programs. The office fulfills its mission by advancing policy and issuing competitive contracts and grants to an array of community, academic, and other organizations at the national and community levels.

This year marks the office's 25th anniversary and OWH is hosting an event in the Washington, DC area to celebrate this important milestone. The event will feature a panel discussion focusing on the future of women's health, followed by an awards ceremony to recognize organizations, partners, and individuals who helped improve the health and well-being of women and girls in the U.S. over the past 25 years.

Eligibility for Award

To be eligible, applicants must meet the following criteria.

• Partnership Award: The organization (public sector, private sector, or academic institution):

○ Supported an OWH-led observance or initiative between June 2011-2016.

○ Is not currently funded by OWH.

○ Demonstrated its commitment to making women's health a priority and has created initiatives or programs outside of its OWH partnership to improve women's health.

○ Produced measurable results that increased awareness about OWH, its initiative(s), or observance(s). (Measurable results could include social media analytics, Web site analytics, program participants, patients helped, providers trained, media coverage, etc.)

• Trailblazer Award: The candidate (public sector, private sector, or academic institution):

○ Supported or played a role in the advancement of women's health over the last 25 years. These results should be measureable.

○ Advanced women's health through research, advocacy, or policy in the United States.

○ Mentored other leaders or individuals and has encouraged them to advance women's health through their own initiatives.

○ Has exhibited both integrity and a willingness to collaborate with others to progress women's health.

• Emerging Leader Award: The candidate (public sector, private sector, or academic institution):

○ Has supported or played a role in the advancement of women's health over the last five years (June 2011-June 2016).

○ Is in the first ten years of their career and is implementing innovative strategies in women's health.

○ Advanced women's health through research, education, advocacy, or policy in the United States.

○ Has exhibited integrity and a willingness to collaborate with others to progress women's health.

Each nomination shall contain a description of: (1) The background and history of the organization or individual and (2) how the organization or individual satisfies the criteria detailed above. The award recipient will be invited to attend the award ceremony to be held in mid-October.

Evaluation Criteria: OWH will select award recipients based on how they meet the criteria detailed above.

Expressions of interest should outline eligibility in response to the qualifications bulleted above and be no more than two pages in length, single-spaced, and 12 point font.

Dated: August 4, 2016.
Nancy C. Lee,
Deputy Assistant Secretary for Health—Women's Health Director, Office on Women's Health.

[FR Doc. 2016-19007 Filed 8-9-16; 8:45 am]

BILLING CODE 4150-42-P